DEPARTMENT OF TRANSPORTATION

Federal Aviation Administration

14 CFR Part 71

[Docket No. FAA-2020-0155; Airspace Docket No. 20-ASO-4]

RIN 2120-AA66

Establishment of Class E Airspace; Wiggins, MS

AGENCY: Federal Aviation Administration (FAA), DOT.

ACTION: Final rule, correction.

SUMMARY: This action corrects a final rule published in the Federal Register of May 23, 2022, that modifies Establishment of Class E airspace at Dean Griffin Memorial Airport, Wiggins, MS. The geographic coordinates of the airport are amended to be in concert with the FAA's aeronautical database.

DATES: Effective 0901 UTC, September 8, 2022. The Director of the Federal Register approves this incorporation by reference action under 1 CFR 51, subject to the annual revision of FAA Order 7400.11 and publication of conforming amendments.

FOR FURTHER INFORMATION CONTACT: Rebecca Shelby, Federal Aviation Administration, Operations Support Group, Central Service Center, 10101 Hillwood Parkway, Fort Worth, TX 76177; telephone (817) 222-5857.

SUPPLEMENTARY INFORMATION:

History

The FAA published a final rule in the Federal Register for Docket No. FAA-2020-0155 (87 FR 31132, May 23, 2022), establishing Class E airspace at the Dean Griffin Memorial Airport, Wiggins, MS. Subsequent to publication, the FAA identified an error that the geographic coordinates of the airport need to be amended to be in concert with the FAA's aeronautical database. This correction changes the coordinates from “(Lat. 30°54′35″ N)” to read “(Lat. 30°50′35″ N)”.

Correction to Final Rule

Accordingly, pursuant to the authority delegated to me, in the Federal Register of May 23, 2022 (87 FR 31132) FR Doc. 2022-10940, Establishment of Class E Airspace; Wiggins, MS, is corrected as follows:

§ 71.1 [Corrected]

On page 31132, column 3, line 57; remove “(Lat. 30°54′35″ N)” and add in its place “(Lat. 30°50′35″ N)”.

Issued in Fort Worth, Texas, on July 12, 2022.
Martin A. Skinner,
Manager, Operations Support Group, ATO Central Service Center.

[FR Doc. 2022-15213 Filed 7-15-22; 8:45 am]

BILLING CODE 4910-13-P